NATIONAL SCIENCE FOUNDATION

Advisory Committee for Education and Human Resources; Notice of Meeting

In accordance with the Federal Advisory Committee Act (Pub. L. 92-463, as amended) the National Science Foundation announces the following meeting.

Name: Advisory Committee for Education and Human Resources

Date and Time: November 7; 8:30 am-6:30 pm. November 8; 8:30 am-3 pm.

Place: National Science Foundation, 4201 Wilson Boulevard, Arlington, VA 22230.

Type of Meeting: Open.

Contact Person: John B. Hunt, Senior Liaison, ACEHR, Directorate for Education and Human Resources, National Science Foundation, 4201 Wilson Boulevard, Room 805, Arlington, VA 22230, 703-292-8602.

Summary Minutes: May be obtained from contact person listed above.

Purpose of Meeting: To provide advice and recommendations concerning NSF support for Education and Human Resources.

Agenda: Discussion of FY 2001 programs of the Directorate for Education and Human Resources and planning for future activities.

Dated: October 16, 2001.
Susanne Bolton,
Committee Management Officer.

[FR Doc. 01-26438 Filed 10-18-01; 8:45 am]

BILLING CODE 7555-01-M